DEPARTMENT OF COMMERCE

Bureau of Industry and Security

15 CFR Part 744

[Docket No. 100115025-0032-01]

RIN 0694-AE84

Addition of Certain Persons to the Entity List: Addition of Persons Acting Contrary to the National Security or Foreign Policy Interests of the United States

AGENCY: Bureau of Industry and Security, Commerce.

ACTION: Final rule.

SUMMARY: This rule amends the Export Administration Regulations (EAR) by adding ten additional persons located in Hong Kong and Taiwan to the Entity List (Supplement No. 4 to Part 744) on the basis of Section 744.11 of the EAR. These persons that are added to the Entity List have been determined by the U.S. Government to be acting contrary to the national security or foreign policy interests of the United States.

The Entity List provides notice to the public that certain exports, reexports, and transfers (in-country) to parties identified on the Entity List require a license from the Bureau of Industry and Security (BIS) and that availability of license exceptions in such transactions is limited.

DATES: Effective Date: This rule is effective February 19, 2010. Although there is no formal comment period, public comments on this regulation are welcome on a continuing basis.

ADDRESSES: You may submit comments, identified by RIN 0694-AE84, by any of the following methods:

E-mail: publiccomments@bis.doc.gov. Include “RIN 0694-AE84” in the subject line of the message.

Fax: (202) 482-3355. Please alert the Regulatory Policy Division, by calling (202) 482-2440, if you are faxing comments.

Mail or Hand Delivery/Courier: Timothy Mooney, U.S. Department of Commerce, Bureau of Industry and Security, Regulatory Policy Division, 14th St. & Pennsylvania Avenue, NW., Room 2705, Washington, DC 20230, Attn: RIN 0694-AE84. Send comments regarding the collection of information associated with this rule, including suggestions for reducing the burden, to Jasmeet K. Seehra, Office of Management and Budget (OMB), by e-mail to Jasmeet_K._Seehra@omb.eop.gov, or by fax to (202) 395-7285; and to the Regulatory Policy Division, Bureau of Industry and Security, Department of Commerce, 14th St. & Pennsylvania Avenue, NW., Room 2705, Washington, DC 20230. Comments on this collection of information should be submitted separately from comments on the final rule (i.e. RIN 0694-AE84)—all comments on the latter should be submitted by one of the three methods outlined above.

FOR FURTHER INFORMATION CONTACT: Elizabeth Scott Sangine, Acting Chairman, End-User Review Committee, Office of the Assistant Secretary, Export Administration, Bureau of Industry and Security, Department of Commerce, Phone: (202) 482-3343, Fax: (202) 482-3911, e-mail: bscott@bis.doc.gov.

SUPPLEMENTARY INFORMATION:

Background

The Entity List provides notice to the public that certain exports, reexports, and transfers (in-country) to parties identified on the Entity List require a license from the Bureau of Industry and Security (BIS) and that availability of license exceptions in such transactions is limited. Persons are placed on the Entity List on the basis of criteria set forth in certain sections of part 744 (Control Policy: End-User and End-Use Based) of the EAR.

The End-User Review Committee (ERC), composed of representatives of the Departments of Commerce (Chair), State, Defense, Energy and, where appropriate, the Treasury, makes all decisions regarding additions to, removals from or changes to the Entity List. The ERC makes all decisions to add an entry to the Entity List by majority vote and all decisions to remove or modify an entry by unanimous vote.

ERC Entity List Decisions

The ERC made a determination to add ten persons to the Entity List on the basis of § 744.11 (License Requirements That Apply to Entities Acting Contrary to the National Security or Foreign Policy Interests of the United States) of the EAR. The ten entries added to the Entity List consist of six persons in Hong Kong and four persons in Taiwan.

The ERC reviewed § 744.11(b) (Criteria for revising the Entity List) in making the determination to add these persons to the Entity List. Under that paragraph, entities for which there is reasonable cause to believe, based on specific and articulable facts, that have been involved, are involved, or pose a significant risk of being or becoming involved in activities that are contrary to the national security or foreign policy interests of the United States and those acting on behalf of such entities may be added to the Entity List pursuant to § 744.11. Paragraphs (b)(1)-(b)(5) include an illustrative list of activities that could be contrary to the national security or foreign policy interests of the United States. The persons being added to the Entity List under this rule have been determined by the ERC to be involved in activities that could be contrary to the national security or foreign policy interests of the United States.

Additions to the Entity List

This rule implements the decision of the ERC to add ten persons to the Entity List on the basis of § 744.11 of the EAR. For all of the ten persons added to the Entity List, the ERC specifies a license requirement for all items subject to the EAR and establishes a license application review policy of a presumption of denial. The license requirement applies to any transaction in which items are to be exported, reexported or transferred (in-country) to such persons or in which such persons act as purchaser, intermediate consignee, ultimate consignee, or end-user. In addition, no license exceptions are available for shipments to those persons being added to the Entity List.

Specifically, this rule adds the following ten persons to the Entity List:

Hong Kong

(1) ACTeam Logistics Ltd., Unit B1-B3, 21/F, Block B, Kong Nam Industrial Building, 603-609 Castle Peak Road, Tsuen Wan, N.T., Hong Kong;

(2) Dick Kuo, Room 9-11, 5/F, Block B, Hoplite Industrial Centre, 3-5 Wang Tai Road, Kowloon, Hong Kong;

(3) Dick Leung, GF Seapower Industrial Building 177, Hoi Bun Road, Kowloon, Hong Kong;

(4) Joe Shih, Room 9-11, 5/F, Block B, Hoplite Industrial Centre, 3-5 Wang Tai Road, Kowloon, Hong Kong;

(5) Signet Express Co., Ltd., Room 9-11, 5/F, Block B, Hoplite Industrial Centre, 3-5 Wang Tai Road, Kowloon, Hong Kong; and

(6) Tex-Co Logistics Ltd., GF Seapower Industrial Building 177, Hoi Bun Road, Kowloon, Hong Kong, and Room 2202, 22F, Causeway Bay Plaza 1, 489 Hennessey Road, Causeway Bay, Hong Kong, and Room B03, 6/F, Cheong Wah Factory Building, 39-41 Sheung Heung Road, Tokwawan, Kowloon, Hong Kong.

Taiwan

(1) Christine Sun, 7th Floor, Number 17, Zhonghua Rd., Sec 2, Xinzhuang City, Taipei, Taiwan;

(2) In-Tech Company, a.k.a., In-Tech Telecom, Number 15, Lane 347, Jhongjheng Road, Sinjihuang City, Taipei, Taiwan, and 7th Floor, Number 17, Zhonghua Rd., Sec 2, Xinzhuang City, Taipei, Taiwan;

(3) Landstar Tech Company Ltd., 13/F, Number 181, Sec 1, Datong Rd., Sijhih City, Taipei, Taiwan; and

(4) Yi-Lan Chen, a.k.a., Kevin Chen, 13/F, Number 181, Sec 1, Datong Rd., Sijhih City, Taipei, Taiwan, and 7th Floor, Number 17, Zhonghua Rd., Sec 2, Xinzhuang City, Taipei, Taiwan.

A BIS license is required for the export, reexport or transfer (in-country) of any item subject to the EAR to any of the persons listed above, including any transaction in which any of the listed persons will act as purchaser, intermediate consignee, ultimate consignee, or end-user of the items. This listing of these persons also prohibits the use of license exceptions (see part 740 of the EAR) for exports, reexports and transfers (in-country) of items subject to the EAR involving such persons.

Savings Clause

Shipments of items removed from eligibility for a License Exception or export or reexport without a license (NLR) as a result of this regulatory action that were on dock for loading, on lighter, laden aboard an exporting or reexporting carrier, or en route aboard a carrier to a port of export or reexport, on February 19, 2010, pursuant to actual orders for export or reexport to a foreign destination, may proceed to that destination under the previous eligibility for a License Exception or export or reexport without a license (NLR) so long as they are exported or reexported before March 22, 2010. Any such items not actually exported or reexported before midnight, on March 22, 2010, require a license in accordance with this rule.

Although the Export Administration Act expired on August 20, 2001, the President, through Executive Order 13222 of August 17, 2001, 3 CFR, 2001 Comp., p. 783 (2002), as extended by the Notice of August 13, 2009, 74 FR 41325 (August 14, 2009), has continued the Export Administration Regulations in effect under the International Emergency Economic Powers Act.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office and Management and Budget control number 0694-0088 are expected to increase slightly as a result of this rule.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States. (See 5 U.S.C. 553(a)(1)). Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 13, 2009, 74 FR 41325 (August 14, 2009); Notice of November 6, 2009, 74 FR 58187 (November 10, 2009).

2. Supplement No. 4 to part 744 is amended:

a. By adding under Hong Kong, in alphabetical order, six Hong Kong entities; and

b. By adding, in alphabetical order, the destination of Taiwan under the Country column and four Taiwanese entities;

The additions read as follows:

Supplement No. 4 to Part 744—Entity List

Country | Entity | License requirement | License review policy | Federal Register citation
* * * * * * *
HONG KONG
* * * * * * *
| ACTeam Logistics Ltd., Unit B1-B3, 21/F, Block B, Kong Nam Industrial Building, 603-609 Castle Peak Road, Tsuen Wan, N.T., Hong Kong | For all items subject to the EAR. (See § 744.11 of the EAR) | Presumption of denial | 75 FR [INSERT FR PAGE NUMBER], 2/19/10.
* * * * * * *
| Dick Kuo, Room 9-11, 5/F, Block B, Hoplite Industrial Centre, 3-5 Wang Tai Road, Kowloon, Hong Kong | For all items subject to the EAR. (See § 744.11 of the EAR) | Presumption of denial | 75 [INSERT FR PAGE NUMBER], 2/19/10.
| Dick Leung, GF Seapower Industrial Building 177, Hoi Bun Road, Kowloon, Hong Kong | For all items subject to the EAR. (See § 744.11 of the EAR) | Presumption of denial | 75 FR [INSERT FR PAGE NUMBER], 2/19/10.
* * * * * * *
| Joe Shih, Room 9-11, 5/F, Block B, Hoplite Industrial Centre, 3-5 Wang Tai Road, Kowloon, Hong Kong | For all items subject to the EAR. (See § 744.11 of the EAR) | Presumption of denial | 75 FR [INSERT FR PAGE NUMBER], 2/19/10.
* * * * * * *
| Signet Express Co., Ltd., Room 9-11, 5/F, Block B, Hoplite Industrial Centre, 3-5 Wang Tai Road, Kowloon, Hong Kong | For all items subject to the EAR. (See § 744.11 of the EAR) | Presumption of denial | 75 FR [INSERT FR PAGE NUMBER], 2/19/10.
* * * * * * *
| Tex-Co Logistics Ltd., GF Seapower Industrial Building 177, Hoi Bun Road, Kowloon, Hong Kong, and Room 2202, 22F, Causeway Bay Plaza 1, 489 Hennessey Road, Causeway Bay, Hong Kong, and Room B03, 6/F, Cheong Wah Factory Building, 39-41 Sheung Heung Road, Tokwawan, Kowloon, Hong Kong | For all items subject to the EAR. (See § 744.11 of the EAR) | Presumption of denial | 75 FR [INSERT FR PAGE NUMBER], 2/19/10.
* * * * * * *
TAIWAN | Christine Sun, 7th Floor, Number 17, Zhonghua Rd., Sec 2, Xinzhuang City, Taipei, Taiwan | For all items subject to the EAR. (See § 744.11 of the EAR) | Presumption of denial | 75 FR [INSERT FR PAGE NUMBER], 2/19/10.
| In-Tech Company, a.k.a., In-Tech Telecom, Number 15, Lane 347, Jhongjheng Road, Sinjihuang City, Taipei, Taiwan, and 7th Floor, Number 17, Zhonghua Rd., Sec 2, Xinzhuang City, Taipei, Taiwan | For all items subject to the EAR. (See § 744.11 of the EAR) | Presumption of denial | 75 FR [INSERT FR PAGE NUMBER], 2/19/10.
| Landstar Tech Company Ltd., 13/F, Number 181, Sec 1, Datong Rd., Sijhih City, Taipei, Taiwan | For all items subject to the EAR. (See § 744.11 of the EAR) | Presumption of denial | 75 FR [INSERT FR PAGE NUMBER], 2/19/10.
| Yi-Lan Chen, a.k.a., Kevin Chen, 13/F, Number 181, Sec 1, Datong Rd., Sijhih City, Taipei, Taiwan, and 7th Floor, Number 17, Zhonghua Rd., Sec 2, Xinzhuang City, Taipei, Taiwan | For all items subject to the EAR. (See § 744.11 of the EAR) | Presumption of denial | 75 FR [INSERT FR PAGE NUMBER], 2/19/10.
* * * * * * *

Dated: February 3, 2010.
Matthew S. Borman,
Deputy Assistant Secretary for Export Administration.

[FR Doc. 2010-3278 Filed 2-18-10; 8:45 am]

BILLING CODE 3510-33-P